SECURITIES AND EXCHANGE COMMISSION

In the Matter of International Business Ventures Group, Inc.; File No. 500-1; Order of Suspension of Trading

March 6, 2009.

It appears to the Securities and Exchange Commission that there is a lack of current and accurate information concerning the securities of International Business Ventures Group, Inc. (“IBVG”) because of questions regarding the accuracy of assertions by IBVG, and by others, of publicly disseminated information concerning, among other things, IBVG's products and business prospects.

The Commission is of the opinion that the public interest and the protection of investors require a suspension of trading in the securities of the above listed company.

Therefore, it is ordered, pursuant to Section 12(k) of the Securities Exchange Act of 1934, that trading in the securities in the above listed company is suspended for the period from 9:30 a.m. EST, March 6, 2009 through 11:59 p.m. EDT, on March 19, 2009.

By the Commission.
J. Lynn Taylor,
Assistant Secretary.

[FR Doc. E9-5169 Filed 3-6-09; 4:15 pm]

BILLING CODE 8011-01-P